FEDERAL COMMUNICATIONS COMMISSION

47 CFR Parts 1 and 27

[GN Docket No. 12-268, WT Docket Nos. 14-170 and 05-211, Report No. 3031]

Petitions for Reconsideration of Action in Rulemaking Proceeding

AGENCY: Federal Communications Commission.

ACTION: Petitions for reconsideration.

SUMMARY: Petitions for Reconsideration (Petitions) have been filed in the Commission's rulemaking proceeding by: Kim M. Keenan, on behalf of the Multicultural Media, Telecom and Internet Council; Donald L. Herman, Jr., on behalf of the Rural-26 DE Coalition; and D. Cary Mitchell, on behalf of the Blooston Rural Carriers.

DATES: Oppositions to the Petitions must be filed on or before November 25, 2015. Replies to an opposition must be filed on or before December 7, 2015.

ADDRESSES: Federal Communications Commission, 445 12th Street SW., Washington, DC 20554.

FOR FURTHER INFORMATION CONTACT: Leslie Barnes, Wireless Telecommunications Bureau, (202) 418-1612, email: leslie.barnes@fcc.gov.

SUPPLEMENTARY INFORMATION: This is a summary of Commission's document, Report No. 3031, released November 4, 2015. The full text of the Petitions is available for viewing and copying at the FCC Reference Information Center, 445 12th Street SW., Room CY-A257, Washington, DC 20554 or may be accessed online via the Commission's Electronic Comment Filing System at http://apps.fcc.gov/ecfs/. The Commission will not send a copy of this Public Notice pursuant to the Congressional Review Act, 5 U.S.C. 801(a)(1)(A), because this Public Notice does not have an impact on any rules of particular applicability.

Subject: Updating Part 1 Competitive Bidding Rules; Expanding the Economic and Innovation Opportunities of Spectrum Through Incentive Auctions; Petition of DIRECTV Group, Inc. and EchoStar LLC for Expedited Rulemaking to Amend 47 CFR 1.2105(a)(2)(xi) and 1.2106(a) and/or for Interim Conditional Waiver; Implementation of the Commercial Spectrum Enhancement Act and Modernization of the Commission's Competitive Bidding Rules and Procedures, published at 80 FR 56754, September 18, 2015, in GN Docket No. 12-268, WT Docket Nos. 14-170, 05-0211, and FCC 15-80. This Public Notice is being published pursuant to 47 CFR 1.429(e). See also 47 CFR 1.4(b)(1).

Number of Petitions Filed: 3.

Federal Communications Commission.
Marlene H. Dortch,
Secretary.

[FR Doc. 2015-28554 Filed 11-9-15; 8:45 am]

BILLING CODE 6712-01-P